DEPARTMENT OF COMMERCE

Foreign-Trade Zones Board

[B-41-2020]

Foreign-Trade Zone (FTZ) 22—Chicago, Illinois; Notification of Proposed Production Activity; Volflex, Inc. (Flexible Packaging), Mokena, Illinois

The Illinois International Port District, grantee of FTZ 22, submitted a notification of proposed production activity to the FTZ Board on behalf of Volflex, Inc. (Volflex), located in Mokena, Illinois. The notification conforming to the requirements of the regulations of the FTZ Board (15 CFR 400.22) was received on June 22, 2020.

The grantee has submitted a separate application for FTZ designation at the company's facility under FTZ 22. The facility is used for the production of flexible packaging in the form of aluminum laminated products. Pursuant to 15 CFR 400.14(b), FTZ activity would be limited to the specific foreign-status material/component and specific finished products described in the submitted notification (as described below) and subsequently authorized by the FTZ Board.

Production under FTZ procedures could exempt Volflex from customs duty payments on the foreign-status material/component used in export production. On its domestic sales, for the foreign-status material/component noted below, Volflex would be able to choose the duty rates during customs entry procedures that apply to aluminum radiant barriers, food wrap, and bag stock (duty rate ranges from duty-free to 5.7%). Volflex would be able to avoid duty on foreign-status material which becomes scrap/waste. Customs duties also could possibly be deferred or reduced on foreign-status production equipment.

The material/component sourced from abroad is aluminum foil (duty rate 5.8%). The request indicates that aluminum foil is subject to an antidumping/countervailing duty (AD/CVD) order if imported from the People's Republic of China. The FTZ Board's regulations (15 CFR 400.14(e)) require that merchandise subject to AD/CVD orders, or items which would be otherwise subject to suspension of liquidation under AD/CVD procedures if they entered U.S. customs territory, be admitted to the zone in privileged foreign status (19 CFR 146.41). The request also indicates that aluminum foil may be subject to duties under Section 232 of the Trade Expansion Act of 1962 (Section 232) or Section 301 of the Trade Act of 1974 (Section 301), depending on the country of origin. The applicable Section 232 and Section 301 decisions require subject merchandise to be admitted to FTZs in privileged foreign status.

Public comment is invited from interested parties. Submissions shall be addressed to the Board's Executive Secretary and sent to: ftz@trade.gov. The closing period for their receipt is August 10, 2020.

A copy of the notification will be available for public inspection in the “Reading Room” section of the Board's website, which is accessible via www.trade.gov/ftz.

For further information, contact Juanita Chen at juanita.chen@trade.gov or 202-482-1378.

Dated: June 24, 2020.
Andrew McGilvray,
Executive Secretary.

[FR Doc. 2020-14005 Filed 6-29-20; 8:45 am]

BILLING CODE 3510-DS-P